DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Wyoming Resource Advisory Council (RAC) will meet as indicated below.

DATES: The meeting is scheduled for Wednesday, March 1, 2017, from 1 p.m. to 5 p.m.; and Thursday, March 2, 2017, from 8 a.m. to 5 p.m.

ADDRESSES: The meeting will be conducted at the BLM Wyoming State Office, 5353 Yellowstone Road, Cheyenne, Wyoming.

FOR FURTHER INFORMATION CONTACT: Kristen Lenhardt, Deputy State Director of Communications, Wyoming State Office, 5353 Yellowstone Road, Cheyenne, WY 82009; telephone: 307-775-6015; email: klenhard@blm.gov.

Persons who use a telecommunications device for the deaf may call the Federal Relay Service (FRS) at 1-800-877-8339 to contact the above individual during normal business hours. The FRS is available 24 hours a day, 7 days a week, to leave a message or question with the above individual. You will receive a reply during normal business hours.

SUPPLEMENTARY INFORMATION: This 10-member RAC advises the Secretary of the Interior on a variety of management issues associated with public land management in Wyoming. Planned agenda topics for the March meeting (see DATES) include discussions on invasive species and follow-up to issues raised at previous RAC meetings.

On Thursday, March 2, the meeting will begin with a public comment period at 8 a.m. Depending on the number of persons wishing to comment and time available, the time for individual oral comments may be limited. If there are no members of the public interested in speaking, the meeting will move promptly to the next agenda item. The public may also submit written comments to the RAC by emailing klenhard@blm.gov, with the subject line “RAC Public Comment” or by submitting comments during the meeting to the Chief of Communications. Typed or written comments will be provided to RAC members as part of the meeting minutes.

Mary Jo Rugwell,
State Director.

[FR Doc. 2017-03519 Filed 2-21-17; 8:45 am]

BILLING CODE 4310-22-P